DEPARTMENT OF TRANSPORTATION

Federal Aviation Administration

14 CFR Part 21

[Docket No. FAA-2023-2316]

Restricted Category Special Purpose Operation of Humanitarian, Emergency, and Disaster Aerial Delivery

AGENCY: Federal Aviation Administration (FAA), DOT.

ACTION: Notice of availability; request for comments.

SUMMARY: This document is requesting comments on the addition of a restricted category special purpose operation of Humanitarian, Emergency, and Disaster Aerial Delivery, pursuant to Title 14 of the Code of Federal Regulations (14 CFR) 21.25(b)(7).

DATES: Send comments on or before April 8, 2024.

ADDRESSES: Send comments identified by docket number FAA-2023-2316 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

• Docket: Background documents or comments received may be read at https://www.regulations.gov/ at any time. Follow the online instructions for accessing the docket or go to Docket Operations in Room W12-140 of the West Building Ground Floor at 1200 New Jersey Avenue SE, Washington, DC, between 9 a.m. and 5 p.m., Monday through Friday, except Federal holidays.

FOR FURTHER INFORMATION CONTACT: Graham Long, Design and Maintenance Systems Section (AIR-631), Organization and System Policy Branch, Policy and Standards Division, Aircraft Certification Service, by email at graham.long@faa.gov or by phone at (202) 267-1624.

SUPPLEMENTARY INFORMATION:

A. Comments Invited

The FAA invites interested persons to participate by submitting written comments, data, or views. To ensure the docket does not contain duplicate comments, commenters should submit only one time if comments are filed electronically, or commenters should send only one copy of written comments if comments are filed in writing.

The FAA will file in the docket all comments it receives, as well as a report summarizing each substantive public contact with FAA personnel concerning this notice. Before acting on this proposal, the FAA will consider all comments it receives on or before the closing date for comments. The FAA will consider comments filed after the comment period has closed if it is possible to do so without incurring expense or delay. The FAA may change this proposal in light of the comments it receives.

B. Privacy

Except for Confidential Business Information (CBI) as described in the following paragraph, and other information as described in title 14, Code of Federal regulations (14 CFR) 11.35, the FAA will post all comments received without change to http://www.regulations.gov, including any personal information you provide.

C. Confidential Business Information

Confidential Business Information (CBI) is commercial or financial information that is both customarily and actually treated as private by its owner. Under the Freedom of Information Act (FOIA) (5 U.S.C. 552), CBI is exempt from public disclosure. If your comments responsive to this document contain commercial or financial information that is customarily treated as private, that you actually treat as private, and that is relevant or responsive to this document, it is important that you clearly designate the submitted comments as CBI. Please mark each page of your submission containing CBI as “PROPIN.” The FAA will treat such marked submissions as confidential under the FOIA, and the indicated comments will not be placed in the public docket of this document. Send submissions containing CBI to the information contact person listed above. Comments the FAA receives, which are not specifically designated as CBI, will be placed in the public docket for this document.

Background

The FAA is considering a new restricted category special purpose operation of Humanitarian, Emergency, and Disaster Aerial Delivery, pursuant to 14 CFR 21.25(b)(7). Recent natural disasters in the United States have prompted the FAA to consider making available additional aviation resources to deliver material for humanitarian, emergency, and disaster relief activities. The proposed special purpose operation involves aerial delivery of materials and supplies to the affected area.

Approval of this new special purpose operation would expand the usability of restricted category aircraft and support the public welfare. It is in the public interest to support remote communities and areas that are otherwise inaccessible to provide humanitarian, emergency, and disaster relief. These activities can provide support for the World Food Program, International Red Cross, Federal Emergency Management Agency, and other governmental or non-governmental organizations throughout the United States and the world.

The FAA is considering limiting this approval to periods when a government agency has made a declaration of a state of emergency, or a similar declaration. Note that the operating limitations pursuant to § 91.313, and the noise requirements pursuant to 14 CFR part 36, would apply to this restricted category special purpose operation, unless otherwise waived.

Issued in Washington, DC, on March 5, 2024.
Brian E. Cable,
Manager, Organization and System Policy Branch, Policy and Standards Division, Aircraft Certification Service.

[FR Doc. 2024-04966 Filed 3-7-24; 8:45 am]

BILLING CODE P